DEPARTMENT OF THE INTERIOR

National Park Service

Environmental Impact Statement Availability

AGENCY: National Park Service, Interior.

ACTION: The National Park Service announces the availability of the Record of Decision for the Final Environmental Impact Statement for Saratoga National Historical Park General Management Plan.

SUMMARY: In September 2004, the Regional Director, Northeast Region, National Park Service approved the Record of Decision (ROD) of the Final Environmental Impact Statement for Saratoga National Historical Park General Management Plan. The ROD is a statement of the background of the project, the decision made, synopsis of the other alternatives considered, the basis for the decision, the environmentally preferable alternative, a summary of measures to minimize environmental harm, and an overview of the public involvement in the decisiomaking process. The ROD is now available from the National Park Service.

Decision (Selected Action)

After thorough analysis and extensive public involvement, the National Park Service will implement Alternative D (the Preferred Alternative identified in the Draft and abbreviated Final Environmental Impact Statements) to help guide management of Saratoga National Historical Park. Alternative D was selected because it supports the purpose and significance of the park, and minimizes impacts on the park's resources while providing for public use and enjoyment of those resources.

Alternative D: Focus on the Burgoyne Campaign seeks to improve visitor understanding of the events that led to the 1777 British surrender by providing a more complete and logical depiction of these events. This approach also includes—secondary to the strategic factors—interpretation of the efforts to commemorate the military events and opportunities to reflect on their meaning. Additionally, Alternative D enables the park to expand its partnerships with other Burgoyne Campaign—related sites and regional entities in the Champlain-Hudson and Mohawk valleys.

Other Alternatives Considered

Three additional alternatives were considered analyzed for impacts on the environment. They are summarized below. Alternative D was formed by combining elements of alternatives B and C.

Alternative A: Focus on Current Management Objectives allowed for incremental action toward existing objectives with minimum change to the park's current management philosophy and physical conditions. This concept would have entailed no significant expansion of the park's participation in regional initiatives over the current situation. Alternative A served as the “no-action” alternative required by the National Environmental Policy Act.

Alternative B: Focus on the Battles, Siege, and Surrender concentrated on improving visitor understanding of the events that led to the 1777 British surrender at Saratoga by providing a more complete and logical depiction of these events. It rehabilitated key landscape features to help the visitor understand conditions faced by the armed forces and how landscape conditions were used and manipulated to serve tactical needs. This concept also enabled park staff to work with regional partners in developing outreach initiatives.

Alternative C: Focus on the Park as Memorial Grounds presented the park as a memorial landscape that had been commemorated in numerous ways over generations, from the erection of monuments, to the establishment of State and Federal parkland, to contemporary efforts to link important sites through regional heritage initiatives. This approach preserved and enhanced interpretation of key landscape features to help the visitor understand the military events of 1777 and the efforts to commemorate those events. Moreover, this alternative envisioned the park as an important gateway to the regional initiatives of the Champlain-Hudson and Mohawk valleys.

Decision Rationale

The major Federal laws and policies that apply to Federal agency actions in the General Management Plan are the National Park Service Organic Act and General Authorities Act, the public laws creating and augmenting Saratoga National Historical Park, the National Parks and Recreation Act of 1978, the National Environmental Policy Act, and related provisions of the National Park Service Management Policies 2001. The management action selected complies with the requirements of Federal law, including those statutes listed above.

The potential impacts of the alternatives were identified and evaluated. An analysis of impacts was included in the Draft Environmental Impact Statement. The planning team based the impact analysis and conclusions largely on the review of existing research and studies, information provided by experts in the National Park Service and other agencies and organizations, and the professional judgment of the staff of Saratoga National Historical Park. Where possible, locations of sensitive resources were compared with the locations of proposed developments and modifications. The analysis was qualitative in nature. Where necessary and appropriate in all the alternatives, the planning team proposed mitigating measures to minimize or avoid impacts. Impacts were categorized as direct, indirect, or cumulative and were characterized by type, duration, and intensity.

After a review of potential impacts, the team concluded that Alternative D best protects contributing resources, while enhancing public access to those resources. Overall, Alternative D provides the greatest number of beneficial impacts in comparison to the other alternatives. Alternative D was also selected as the environmentally preferred alternative as it causes the least damage to the biological and physical environment, while best protecting, preserving, and enhancing historic, cultural, and natural resources.

Consultation

Consultation and coordination with appropriate federal and state agencies were conducted throughout the preparation of the General Management Plan. Regarding historic properties of significance to Indian tribes, consultation with the Stockbridge Munsee Band of Mohican Indians was initiated in February 2001 and continued throughout the planning process via mailings of newsletters, the draft plan, and the Final Environmental Impact Statement. Regarding cultural resources, consultation with the New York State Historic Preservation Officer was initiated in January 2001 and continued throughout the process via mailings of newsletters, an advance copy of the draft plan, the actual draft plan, and the Final Environmental Impact Statement. The State Historic Preservation Officer responded with formal comments on the draft plan and concluded that the National Park Service made a convincing case for the selection of Alternative D as the Preferred Alternative. The National Park Service will continue 106 consultation with the New York State Historic Preservation Officer on specific actions, as outlined on page 210 of the Draft Environmental Impact Statement.

Description of Public Involvement in the Decisionmaking Process

Public scoping for the plan was initiated in March 2000 when the planning team held two public sessions. At these meetings, team members discussed the purpose and significance statements and the park's goals with the participants. Also in March 2000, the team invited over 30 scholars and resource specialists to define the park's interpretive themes.

The team followed the scoping sessions with a newsletter in August 2000, which highlighted comments received from the public and reported on the status of planning. The newsletter was distributed to over 700 people and was also made available on the park's Web site.

The team then developed three alternatives, which, along with the interpretive themes, were presented in the second newsletter, published in the autumn of 2001. This newsletter was distributed to over 1,000 people and was posted on the park's Web site.

In addition to publishing the newsletter, the planning team sought public input at three meetings with various stakeholder groups. In July 2001, the team presented the preliminary alternatives to area planners and to local and county officials. In October 2001, stakeholders provided input at a meeting that focused on treatment of the Schuyler Estate. A meeting in April 2002 addressed the feasibility of developing a regional visitor center in Old Saratoga. Throughout the process, the superintendent kept local, county, and State officials informed on the progress of the plan, and consulted with them on specific issues.

Input from these sources made it apparent that a new alternative, combining favored elements of the initial concepts, was desirable. In response, the planning team developed “Alternative D,” as the Preferred Alternative.

Alternative D was highlighted in the Draft General Management Plan/Draft Environmental Impact Statement, made available for a 60-day public review period starting in January 2004. Some 2000 draft plan summary newsletters were distributed. The full draft plan was distributed to a list of nearly 60 recipients, which included the U.S. Environmental Protection Agency, the New York State Historic Preservation Officer, the Stockbridge Munsee Band of Mohican Indians, and other agencies and organizations. Both the summary newsletter and the full draft plan were made available on the Internet and at area libraries. On January 22, 2004, the team held a public open house at the park visitor center, which was attended by some 45 people. Over the course of the public comment period, a total of 32 written comments were received. The team carefully reviewed all responses and incorporated substantive comments in the Final Environmental Impact Statement for the General Management Plan.

The consensus of the public comment period was that National Park Service was pursuing the correct path for the park in Alternative D, the Preferred Alternative. Comments from individuals and public agencies did not require the National Park Service to add other alternatives, significantly alter existing alternatives, or make changes to the impact analysis of the effects of any alternative. Thus, an abbreviated format was used for the responses to comments in the final Environmental Impact Statement, in compliance with the 1978 implementing regulations (40 CFR 1503.4[c]) for the National Environmental Policy Act.

In August 2004, the abbreviated Final Environmental Impact Statement was made available to the public for a 30-day “no-action period,” which concluded on September 2, 2004. The Final Environmental Impact Statement was distributed to a list of nearly 100 recipients, which included the U.S. Environmental Protection Agency, the New York State Historic Preservation Officer, the Stockbridge Munsee Band of Mohican Indians, and other agencies, organizations, officials, and individuals.

Conclusion

Alternative D, the selected action, provides the most comprehensive and proactive strategy among the alternatives considered for meeting the National Park Service's purposes, goals, and objectives for managing Saratoga National Historical Park in accordance with Congressional direction, Federal laws, and National Park Service Management Policies. The selection of Alternative D, as reflected by the analysis contained in the Final Environmental Impact Statement would not result in the impairment of park resources or values and would allow the National Park Service to conserve park resources and provide for their enjoyment by these and future generations.

FOR FURTHER INFORMATION CONTACT: Superintendent, Saratoga National Historical Park, 648 Route 32, Stillwater, New York 12170-1604, telephone (518) 664-9821.

SUPPLEMENTARY INFORMATION: Copies of the Record of Decision may be obtained from the Superintendent listed above.

Dated: September 23, 2004.
Robert W. McIntosh,
Associate Regional Director, Planning & Partnerships, Northeast Region.

[FR Doc. 04-24984 Filed 11-9-04; 8:45 am]

BILLING CODE 4312-52-P